CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. sec. 3506(c)(2)(A)). This program helps to ensure that requested data can be provided in the desired format, reporting burden (time and financial resources) is minimized, collection instruments are clearly understood, and the impact of collection requirement on respondents can be properly assessed.

Currently, the Corporation is soliciting comments concerning its proposed renewal of its Learn and Serve America (hereinafter “LSA”) Grant Applications. These applications are used by current and prospective grantees to apply for funds to support K-12 School-Based Formula, Competitive and Indian Tribe and Territory Set-aside programs; Community-Based programs; and Higher Education programs. Completion of the grant application is required to be considered for or obtain grant funding support from LSA.

Copies of the information collection requests can be obtained by contacting the office listed in the ADDRESSES section of this notice.

DATES: Written comments must be submitted to the individual and office listed in the ADDRESSES section by April 4, 2005.

ADDRESSES: You may submit comments, identified by the title of the information collection activity, by any of the following methods:

(1) Electronically through the Corporation's e-mail address system to Mr. Mark Abbott at mabbott@cns.gov.

(2) By fax to: (202) 565-2787, Attention Mark Abbott.

(3) By mail sent to: Corporation for National and Community Service, Learn and Serve America, 9th Floor, Attention Mark Abbott, 1201 New York Avenue, NW, Washington, DC 20525.

(4) By hand delivery or by courier to the Corporation's mailroom at Room 6010 at the mail address given in paragraph (1) above, between 9 a.m. and 4 p.m. Monday through Friday, except Federal holidays.

FOR FURTHER INFORMATION CONTACT: Mark Abbott, (202) 606-5000, ext. 120.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including through the use of appropriate automated, electronic, mechanical, or other technological collection techniques or other forms of information technology (e.g., permitting electronic submissions of responses).

I. Background

The Learn and Serve America Grant Application is completed by applicant organizations interested in managing a service-learning program directly or administering grant funds to other eligible organizations to manage service-learning programs. The application is completed electronically using eGrants, the Corporation's Web-based grants management system.

The Corporation seeks to renew and revise the current applications. When revised, the application will update eGrants instructions to reflect the new, Web-based user interface for eGrants; shorten background information on Learn and Serve America and clarify guidance on development of program performance measures. The application will otherwise be used in the same manner as the existing application. The Corporation will continue using the current application until the revised application is approved by OMB.

II. Current Action

Type of Review: Renewal.

Agency: Corporation for National and Community Service.

Title: Learn and Serve America Grant Applications.

OMB Numbers: 3045-0045 for Learn and Serve America School and Community-Based Application Instructions and 3045-0046 for Learn and Serve America Higher Education Instructions.

Agency Number: SF 424-NSSC.

Affected Public: Current/prospective recipients of Learn and Serve America Grants.

Total Respondents: 600. (400 for 3045-0045 and 200 for 3045-0046)

Frequency: Annually, with exceptions.

Average Time Per Response: 12 hours for first time respondents and 5 hours for revisions (3045-0045 and -0046); 6 hours for Continuation grantees and 2 hours for revisions.

Estimated Total Burden Hours: 10,200 New grantees (2045-0045 & 0046); 1200 Total Burden Hours for Continuing grantees.

Total Burden Cost (capital/startup): None.

Total Burden Cost (operating/maintenance): None.

Comments submitted in response to this notice will be summarized and/or included in the request for Office of Management and Budget approval of the information collection request; they will also become a matter of public record.

Dated: January 27, 2005.
Mark Abbott,
Associate Director for Grants Management, Learn and Serve America.

[FR Doc. 05-1932 Filed 2-1-05; 8:45 am]

BILLING CODE 6050-$$-P